DEPARTMENT OF HEALTH AND HUMAN SERVICES

Administration for Children and Families

Proposed Information Collection Activity; Comment Request

Title: Mother and Infant Home Visiting Program Evaluation: Follow-up data collection on family outcomes.

OMB No.: 0970-0402.

Description: In 2011, the Administration for Children and Families (ACF) and Health Resources and Services Administration (HRSA) within the U.S. Department of Health and Human Services (HHS) launched a national evaluation called the Mother and Infant Home Visiting Program Evaluation (MIHOPE). This evaluation, mandated by the Affordable Care Act, will inform the federal government about the effectiveness of the Maternal, Infant, and Early Childhood Home Visiting (MIECHV) program in its first few years of operation, and provide information to help states develop and strengthen home visiting programs in the future. MIHOPE has two phases. Phase 1 includes baseline data collection and implementation data; Phase 2 includes follow up data collection. OMB approved a data collection package for Phase 1 in July 2012. The purpose of the current document is to request approval of data collection efforts for Phase 2.

Data collected during Phase 2 will include the following: (1) A one-hour interview with the parent, (2) 30-minutes of observed interactions between the parent and child, (3) a direct assessment of child development, and (4) collection of saliva from the parent or child for purposes of measuring cotinine, an indicator of smoking behavior and exposure to second-hand smoke, and other health and stress indicators. Saliva analysis would not include assessment for illegal drug use or DNA.

Data collected during Phase 2 will be used to estimate the effects of MIECHV-funded programs on seven domains specified for the evaluation in the ACA: (1) Prenatal, maternal, and newborn health; (2) child health and development, including maltreatment, injuries, and development; (3) parenting; (4) school readiness and academic achievement; (5) crime or domestic violence; (6) family economic self-sufficiency; and (7) coordination of referrals for and provision of other community resources. Data collected during Phase 2 will also be used to assess the differences in services used between families who receive home visiting and a comparison group.

Respondents: Respondents in Phase 2 will include parents and children who are enrolled in the study. Data collection activities will take place over a three-year period.

Annual Burden Estimates
Instrument | Annual number of respondents | Number of responses per respondent | Average burden hours per response | Total annual burden hours
Survey of parents in the study | 1360 | 1 | 1.0 | 1360
Observed parent-child interactions | 2720 | 1 | 0.5 | 1360
Direct assessments of children | 2720 | 1 | 0.7 | 1904
Collecting saliva to measure cotinine | 2720 | 1 | 0.1 | 272
Estimated Total Annual Burden Hours |  |  |  | 4896

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2012-18702 Filed 7-31-12; 8:45 am]

BILLING CODE 4184-22-M